NUCLEAR REGULATORY COMMISSION

[Docket No. 030-34751]

VA Medical Center in Brooklyn, NY: License Amendment

AGENCY: Nuclear Regulatory Commission.

ACTION: Notice Of Intent to Amend Byproduct Materials License for the St. Albans Extended Care Facility in Queens, NY: Environmental Assessment, Finding of No Significant Impact, and Opportunity for Hearing.

SUMMARY: The St. Albans Extended Care Center (ECC), operated by the Department of Veterans Affairs (VA) Medical Center in Brooklyn, was formerly a U.S. Navy hospital. The Navy was authorized by the U.S. Atomic Energy Commission under various licenses from 1956 through 1973 to use radioactive materials for nuclear medicine purposes at the site. The Navy's license was terminated in 1973 based on previous contamination survey records. In the early 1990s the Nuclear Regulatory Commission (NRC) conducted a review of terminated licenses, in which the NRC's contractor, Oak Ridge National Laboratory, identified St. Albans as a formerly licensed site which should be reviewed to determine if residual contamination remained after the license was terminated. As a result of this review, strontium-90 (90Sr) and tritium (3H) contamination was identified in the former nuclear medicine facilities at St. Albans. In 1993 the U.S. Army Corps of Engineers (the Corps) stabilized the site, isolating the sewer lines and sealing the affected rooms. The Navy and the Corps conducted subsequent characterization surveys of the facilities, and in 1998 NRC issued a license to the VA for decommissioning of the facility. In 1999 the Corps submitted for the VA a decommissioning plan for the St. Albans facility proposing derived concentration guideline levels (DCGLs) for residual contamination values acceptable to release the facilities for unrestricted use and termination of the NRC license. The final decommissioning plan was submitted on July 7, 2000. NRC plans to amend the St. Albans license to incorporate acceptable DCGLs. Upon approval of this license amendment, residual contamination limits which satisfy the requirements of Subpart E, Title 10, Part 20 of the Code of Federal Regulations, will be applied to the license.

Introduction

The St. Albans ECC incorporates 15 buildings on 55 acres located at 179th Street and Linden Boulevard in Queens, NY. The affected area of the St. Albans ECC consists of the former nuclear medicine laboratory and associated rooms in the basement of one building, identified as Building 90. A Decommissioning Plan was developed for the VA Medical Center in Brooklyn by the Corps. The Corps is responsible for performing the decommissioning under the Formerly Utilized Defense Sites (FUDS) program.

In August 1998, the NRC issued a license to the VA for decontamination and decommissioning of the St. Albans facility. During 1999 the Corps conducted a characterization survey of the affected areas and developed a decommissioning plan. The survey confirmed the presence of 90Sr contamination and traces of 3H contamination in portions of the facility, and was used as the basis for development of the Decommissioning Plan. In December 1999 the Corps proposed DCGLs to be used as radiological cleanup criteria for decommissioning and NRC termination of the license. Revised DCGLs for 90Sr contamination in soil were proposed by the Corps in June 2000.

The licensee's objective for the decommissioning project, as stated in the decommissioning plan, is to decontaminate and remediate the affected areas of Building 90 sufficiently to enable unrestricted use, while ensuring exposures to occupational workers and the public during the decommissioning are maintained as low as reasonably achievable (ALARA).

Proposed Action

The proposed action is to amend NRC Radioactive Materials License Number 31-02892-06 to incorporate appropriate and acceptable DCGLs into the license. The DCGLs will define the maximum amount of residual contamination, such as on building surfaces and in affected soil, that will satisfy the NRC requirements of Subpart E, 10CFR20, Radiological Criteria for License Termination. The DCGLs proposed to be incorporated into the license are as follows:

| Release of equipment & materials (surfaces) | Building surfaces | Soils
Value | 200/1000 /3000 dpm/100 cm2removable/total/max | 90Sr: 8700 dpm/100 cm2 3H: 1.2 E8 dpm/100 cm2 | 90Sr: 11 pCi/g 3H: Not Applicable (see note)
Reference | 1993, NRC Guidelines for Decon of Facilities and Equipment Prior to Release. . . . (also RG 1.86) | 63FR222 pp. 64132-64134 ( Nov 18, 1998) | R.F.Weston/Corps of Engineers letter dated June 7, 2000.

Note: 3H was detected only on the surface of one sink, with none detected in soils. Therefore no 3H DCGL is necessary for soil.

The Need For The Proposed Action

The St. Albans site has been stabilized to prevent contamination from spreading beyond its current locations. Access to the contaminated areas is controlled to assure the health and safety of workers and the public. Decontamination and decommissioning are necessary to allow unrestricted use of the facilities and to eliminate the possibility that the active controls and stabilized conditions can degrade. No ongoing licensed activities are occurring in the facilities, and NRC regulations in 10 CFR 30.36 require the site to be decommissioned. Subpart E of 10 CFR Part 20 specifies a site will be considered acceptable for unrestricted use if the residual radioactivity that is distinguishable from background radiation results in a TEDE (total effective dose equivalent) to an average member of the critical group that does not exceed 25 mrem (0.25 mSv) per year, including that from groundwater sources of drinking water, and that the residual radioactivity has been reduced to levels that are as low as reasonably achievable (ALARA). The NRC has determined that the proposed DCGLs will satisfy the regulations in Subpart E of 10 CFR Part 20.

Alternatives To Proposed Action

NRC staff considered “no action” (not amending the license) as an alternative to the proposed action. The “no-action” alternative would result in no clear definition in the license of the acceptable levels of radioactive contamination relating to the NRC license termination criteria, as stated in Subpart E of 10 CFR Part 20.

Environmental Impacts of Proposed Action

The proposed action is to amend this license to incorporate appropriate and acceptable DCGLs into the license, to be used for decommissioning the site. Decommissioning and decontamination of the St. Albans facility to the proposed DCGL concentrations is expected to have no significant impact on the environment. Remediation activities, in fact, are expected to reduce the potential for the release of radiological contamination to the environment, and will enable termination of the license and release of the facilities for unrestricted use.

Contamination controls will be implemented during decommissioning to prevent airborne and surface contamination from escaping the remediation work areas, and therefore no release of airborne contamination is anticipated. However, the potential will exist for generating airborne radioactive material during decontamination, removal and handling of contaminated materials. If produced, any effluent from the proposed decommissioning activities will be limited in accordance with NRC requirements in 10 CFR Part 20 or contained onsite or treated to reduce contamination to acceptable levels before release, and shall be maintained ALARA. Release of contaminated liquid effluents are not expected to occur during the work.

The Corps and subcontractors will perform the remediation under the VA license, with the VA overseeing the activities and maintaining primary responsibility. The Brooklyn VA has adequate radiation protection procedures and capabilities, and will implement an acceptable program to keep exposure to radioactive materials as low as reasonably achievable (ALARA). As noted above, the Corps has prepared a decommissioning plan describing the work to be performed, and work activities are not anticipated to result in a dose to workers or the public in excess of the 10 CFR Part 20 limits. Past experiences with decommissioning activities at sites similar to St. Albans indicate that public and worker exposure will be far below the limits found in 10 CFR 20.

The proposed action will result in the irreversible use of energy resources during excavation, decontamination, and handling of radioactive material. There are no reasonable alternatives to these resource uses and there are no unresolved conflicts concerning alternative uses of available resources.

Agencies and Individuals Consulted

This environmental assessment (EA) was prepared entirely by NRC staff and coordinated with the following agencies: New York State Department of Environmental Conservation, New York State Office of Parks, Recreation and Historical Preservation, New York City Department of Health, U.S. Environmental Protection Agency, and the U.S. Fish and Wildlife Service. No other sources were used beyond those referenced in this EA.

Conclusions

Decommissioning of the site to the DCGLs proposed for this action will result in reduced residual contamination levels in the facility, enabling release of the facilities for unrestricted use and termination of the radioactive materials license. No radiologically contaminated effluents are expected during the decommissioning. Occupational doses to decommissioning workers are expected to be low and well within the limits of 10 CFR Part 20. No radiation exposure to any member of the public is expected, and public exposure will therefore also be less than the applicable public exposure limits of 10 CFR Part 20. Therefore, the environmental impacts from the proposed action are expected to be insignificant.

Finding of no Significant Impact

NRC has prepared this EA in support of the proposed license amendment to incorporate appropriate and acceptable DCGLs and to use the proposed DCGLs for the planned decommissioning by the Brooklyn VA at the St. Albans Extended Care Center. On the basis of the EA, NRC has concluded that this licensing action will not significantly affect the quality of the human environment and has determined not to prepare an environmental impact statement for the proposed action.

The above documents related to this proposed action are available for public inspection and copying at the Commission's Public Document Room at the Gelman Building, 2120 L Street NW, Washington, DC.

Opportunity for a Hearing

The NRC hereby provides notice that this is a proceeding on an application for a license amendment falling within the scope of Subpart L, Informal Hearing Procedures for Adjudications in Materials Licensing Proceedings, of NRC's rules and practice for domestic licensing proceedings in 10 CFR Part 2. Pursuant to 10 CFR 2.1205(a), any person whose interest may be affected by this proceeding may file a request for a hearing in accordance with 10 CFR 2.1205(d). A request for a hearing must be filed within thirty (30) days of the date of publication of the Federal Register Notice.

The request for a hearing must be filed with the Office of the Secretary either:

1. By delivery to the Docketing and Service Branch of the Office of the Secretary at One White Flint North, 11555 Rockville Pike, Rockville, MD 20852-2738; or

2. By mail or telegram addressed to the Secretary, U. S. Nuclear Regulatory Commission, Washington, DC 20555. Attention: Docketing and Service Branch.

In addition to meeting other applicable requirements of 10 CFR Part 2 of the NRC's regulations, a request for a hearing filed by a person other than the applicant must describe in detail:

1. The interest of the requestor in the proceeding;

2. How that interest may be affected by the results of the proceeding, including the reasons why the requestor should be permitted a hearing, with particular reference to the factors set out in 10 CFR 2.1205(h);

3. The requestor's areas of concern about the licensing activity that is the subject matter of the proceeding; and

4. The circumstances establishing that the request for a hearing is timely in accordance with 10 CFR 2.1205(d).

In accordance with 10 CFR 2.1205(f), each request for a hearing must also be served, by delivering it personally or by mail, to:

1. The licensee, Mr. James Mallen, Chief, Engineering Services, VA Medical Center in Brooklyn, 800 Poly Place, Brooklyn, NY 11209, and

2. The NRC staff, by delivery to the Executive Director for Operations, One White Flint North, 11555 Rockville Pike, Rockville, MD, 20852, or by mail, addressed to the Executive Director for Operations, U.S. Nuclear Regulatory Commission, Washington, DC 20555.

FOR FURTHER INFORMATION CONTACT: Supporting documentation for the proposed action is available for inspection at:

1. NRC's Public Electronic Reading Room at http://www.nrc.gov/NRC/ADAMS/index.html, and

2. At the Commission's Public Document Room, 2120 L Street NW, Washington, D.C. 20555.

Any questions with respect to this action should be referred to Todd Jackson, Decommissioning and Laboratory Branch, Division of Nuclear Materials Safety, Region I at (610) 337-5308.

Dated at King of Prussia, Pennsylvania this 21st day of August 2000.
For the US Nuclear Regulatory Commission.
George Pangburn,
Director, Division of Nuclear Materials Safety, Region I.

[FR Doc. 00-21886 Filed 8-25-00; 8:45 am]

BILLING CODE 7590-01-P